DEPARTMENT OF HEALTH AND HUMAN SERVICES

Centers for Disease Control and Prevention

[60Day-07-0582]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Youth Media Campaign Awareness and Reaction Tracking Study—Extension (0920-0582)—National Center for Chronic Disease Prevention and Health Promotion (NCCDPHP), Centers for Disease Control and Prevention (CDC).

Background and Brief Description

In FY 2001, Congress established the Youth Media Campaign at the Centers for Disease Control and Prevention (CDC). Specifically, the House Appropriations Language said: The Committee believes that, if we are to have a positive impact on the future health of the American population, we must change the behaviors of our children and young adults by reaching them with important health messages. CDC coordinated the planning, implementation, and evaluation of a campaign, VERB. It's what you do., designed to encourage tweens (children aged 9 to 13 years old) to be physically active everyday. The campaign was based on principles that have been shown to enhance success, including: Designing messages based on research; testing messages with the intended audiences; involving young people in all aspects of campaign planning and implementation; enlisting the involvement and support of parents and other influencers; tracking the campaign's effectiveness; and revising Campaign messages and strategies as needed. The campaign was implemented June 2002 through September 30, 2006.

As part of the monitoring of the VERB brand awareness and understanding of its messages, the CDC conducted a tracking study (YMC Tracking Survey). In accordance with the original OMB approval (OMB NO. 0920-0582; Exp. May 2007), the data collection was done by telephone survey on a monthly, then quarterly, basis through out the campaign, surveying 300 tweens at each data collection. The survey measured VERB awareness and understanding, various attributes of the brand (coolness, likeability) and appeal of the advertising.

All VERB advertising ended September 30, 2006. The purpose of this collection is to examine the tween audience's retention of the brand and its meaning 1-year post campaign. Results will inform future planners of health marketing and communication campaigns on how a campaign's awareness and understanding diminish over time. There is no cost to the respondents other than their time.

Estimate of Annualized Burden Hours
Type of respondent | Form name | Number of respondents | Number of responses per respondent | Average burden per response (in hours) | Total burden hours
Parent | YMC Tracking Survey Screening | 600 | 1 | 2/60 | 20
Tween | YMC Tracking Survey | 600 | 1 | 15/60 | 150
Total |  |  |  |  | 170

Dated:November 28, 2006.
Joan F. Karr,
Acting Reports Clearance Officer, Centers for Disease Control and Prevention.

[FR Doc. E6-20417 Filed 12-1-06; 8:45 am]

BILLING CODE 4163-18-P